DEPARTMENT OF THE INTERIOR

Geological Survey

[GX22EF00COM0000]

Reconciliation of Derogatory Geographic Names Tribal Consultation; Correction

AGENCY: U.S. Geological Survey, Interior.

ACTION: Notice; correction.

SUMMARY: The U.S. Department of the Interior (DOI) published a document in the Federal Register on February 23, 2022, concerning conducting Tribal Consultation sessions to obtain oral and written comments on candidate replacement names for geographic feature names recently declared derogatory by DOI Secretary's Order 3404 (S.O. 3404). These sessions will be held virtually. The document contained an error when accessing the Zoom links.

FOR FURTHER INFORMATION CONTACT: Joseph Younkle, Special Assistant to the Assistant Secretary for Water and Science, Office of the Assistant Secretary—Water and Science, (202) 853-4345 or at joseph_younkle@ios.doi.gov.

SUPPLEMENTARY INFORMATION:

Correction

In Federal Register of February 22, 2022, in FR Doc 87, 10232. Correct the hyperlinks for the table under the “Tribal Consultation sessions will be held virtually at the following date and location,” to read:

Tribal Consultation sessions will be held virtually at the following date and location, and require pre-registration:

Date | Time | Venue
March 21, 2022 | 12:00 p.m.-2:00 p.m. Mountain Time | Zoom. To register please copy or type the following link into your internet browser: tinyurl.com/28ebukm7.
March 22, 2022 | 11:00 a.m.-1:00 p.m. Pacific Time | Zoom. To register please copy or type the following link into your internet browser: tinyurl.com/czknm5b3.
March 23, 2022 | 1:00 p.m.-3:00 p.m. Eastern Time | Zoom. To register please copy or type the following link into your internet browser: tinyurl.com/5a3ajejt.

You can also register from the Department of the Interior Upcoming Tribal Consultation page at https://www.doi.gov/priorities/tribal-consultation/upcoming-tribal-consultations or https://go.usa.gov/xzR7t.

Dated: March 14, 2022.
Michael Tischler,
Director, National Geospatial Program, U.S. Geological Survey, Chair, DOI Derogatory Geographic Names Task Force.

[FR Doc. 2022-05650 Filed 3-16-22; 8:45 am]

BILLING CODE 4338-11-P